DEPARTMENT OF THE INTERIOR

Fish and Wildlife Service

[FWS-R9-IA-2010-N063]

[96300-1671-0000-P5]

Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibits activities with listed species unless a Federal permit is issued that allows such activities. Both laws require that we invite public comment before issuing these permits.

DATES: We must receive requests for documents or comments on or before April 26, 2010. We must receive requests for marine mammal permit public hearings, in writing, at the address shown in the ADDRESSES section by April 26, 2010.

ADDRESSES: Brenda Tapia, Division of Management Authority, U.S. Fish and Wildlife Service, 4401 North Fairfax Drive, Room 212, Arlington, VA 22203; fax (703) 558-7725; or e-mail DMAFR@fws.gov.

FOR FURTHER INFORMATION CONTACT: Brenda Tapia, (703) 358-2104 (telephone); (703) 558-7725 (fax); DMAFR@fws.gov (e-mail).

SUPPLEMENTARY INFORMATION:

I. Public Comment Procedures

A. How Do I Request Copies of Applications or Comment on Submitted Applications?

Send your request for copies of applications or comments and materials concerning any of the applications to the contact listed under ADDRESSES. Please include the Federal Register notice publication date, the PRT-number, and the name of the applicant in your request or submission. We will not consider requests or comments sent to an e-mail or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I Review Comments Submitted by Others?

Comments, including names and street addresses of respondents, will be available for public review at the address listed under ADDRESSES. The public may review documents and other information applicants have sent in support of the application unless our allowing viewing would violate the Privacy Act or Freedom of Information Act. Before including your address, phone number, e-mail address, or other personal identifying information in your comment, you should be aware that your entire comment—including your personal identifying information—may be made publicly available at any time. While you can ask us in your comment to withhold your personal identifying information from public review, we cannot guarantee that we will be able to do so.

II. Background

To help us carry out our conservation responsibilities for affected species, section 10(a)(1)(A), of ESA, as amended (16 U.S.C. 1531 et seq.); our ESA regulations in the Code of Federal Regulations (CFR) at 50 CFR 17; the MMPA, as amended (16 U.S.C. 1361 et seq.); and our MMPA regulations in the Code of Federal Regulations (CFR) at 50 CFR 18 require that we invite public comment before final action on permit applications. Under the MMPA, you may request a hearing on any MMPA application received. If you request a hearing, give specific reasons why a hearing would be appropriate. The holding of such a hearing is at the discretion of the Service Director.

III. Permit Applications

A. Endangered Species

Applicant: Lionshare Farm Zoological, LLC, Greenwich, CT; PRT-01671A

The applicant requests a permit to import a female cheetah (Acrinonyx jubatus) from DeWildt Cheetah Breeding Centre, South Africa where the individual cheetah was captive bred for the purpose of enhancement of the survival of the species.

Applicant: Florida Atlantic University/Div. of Research And Sponsored Programs, Boca Raton, FL; PRT - 212266

The applicant requests a permit to export and re-import non-living museum specimens of endangered and threatened species of animals previously accessioned into the permittee's collection for scientific research. This notification covers activities conducted by the applicant for a five year period.

Applicant: Sam Noble Oklahoma Museum of Natural History, Norman, OK; PRT - 075249

The applicant requests a permit to export and re-import non-living museum specimens of endangered and threatened species of animals previously accessioned into the permittee's collection for scientific research. This notification covers activities conducted by the applicant for a five year period.

B. Endangered Marine Mammals and Marine Mammals

Applicant: Robert F. Rockwell, American Museum of Natural History, New York, NY; PRT-03086A

The applicant requests a permit to import up to 1,000 biological samples annually from polar bears (Ursus maritimus) from Canada for the purpose of scientific research. This notification covers activities to be conducted by the applicant over a 5-year period.

Applicant: Sea Studios Foundation, Monterey, CA; PRT-04400A

The applicant requests a permit to photograph Southern sea otters (Enhydra lutris nereis), both above and under water, for commercial and educational purposes. This notification covers activities to be conducted by the applicant over a 2-year period.

Concurrent with publishing this notice in the Federal Register, we are forwarding copies of the above applications to the Marine Mammal Commission and the Committee of Scientific Advisors for their review.

Dated: March 19, 2010
Brenda Tapia,
Program Analyst, Branch of Permits, Division of Management Authority

[FR Doc. 2010-6672 Filed 3-25-10; 8:45 am]

BILLING CODE 4310-55-S